DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic iron and steel products in GenSet diesel engine and air compressor for a Congestion Mitigation and Air Quality (CMAQ) project in the Commonwealth of Kentucky.

DATES: The effective date of the waiver is March 29, 2013.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use some non-domestic iron and steel products in GenSet diesel engine and air compressor for CMAQ project in the Commonwealth of Kentucky.

In accordance with Division A, section 122 of the “Consolidated and Further Continuing Appropriations Act, 2012” (Pub. L. 112-284), the FHWA published a notice of intent to issue a waiver on its Web site for iron and steel products in GenSet diesel engine and air compressor (http://www.fhwa.dot.gov/construction/contracts/waivers.cfm?id=79) on August 22nd. The FHWA received five comments in response to the publication. Two respondents, Mouhamad A. Naboulsi and James Agalzoff, opposed the waiver request. One comment simply stated that American products should be used on America projects. The FHWA agrees with this sentiment and intends to enforce Buy America as required by law. However, in this case, Kentucky has not been able to find these products containing 100 percent American iron and steel, even though the engines and compressors themselves are made in America. The other commenter opposed the waiver because foreign parts will continue to be used if waivers continue to be granted. We agree that the industry may eventually decide to start producing these parts if the industry finds it worthwhile to do so. However, the FHWA cannot continue to hold this project based on the hope that the American industry may someday produce these parts. Three respondents, Jeff Amburn, Tony E. Stauffer, and Melinda Mcpeek, on behalf of their corporations, expressed support for the waiver request. During the 15-day comment period, the FHWA conducted additional nationwide review to locate potential domestic manufacturers of the iron and steel products in GenSet diesel engine and air compressor for CMAQ project in the Commonwealth of Kentucky. Based on all the information available to the agency, the FHWA concludes that there are no domestic manufacturers of the iron and steel products in GenSet diesel engine and air compressor for CMAQ project in the Commonwealth of Kentucky.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Kentucky waiver page noted above.

(Authority: 23 U.S.C. 313; Pub. L. 110-161, 23 CFR 635.410)

Issued on: March 21, 2013.
Victor M. Mendez,
Federal Highway Administrator.

[FR Doc. 2013-07206 Filed 3-27-13; 8:45 am]

BILLING CODE 4910-22-P